DEPARTMENT OF EDUCATION

Notice of Proposed Information Collection Requests

AGENCY: Department of Education.

ACTION: Correction notice.

SUMMARY: On August 28, 2006, the Department of Education published a notice in the Federal Register (page 50901, column 2) for the information collection, “Child Care Survey of Postsecondary Institutions.” This notice hereby amends the Burden Hours for the collection from 688 to 1,376. The IC Clearance Official, Regulatory Information Management Services, Office of the Chief Information Officer, hereby issues a correction notice as required by the Paperwork Reduction Act of 1995.

Dated: August 31, 2006.
Dianne Novick,
Acting Leader, Information Policy and Standards Team, Regulatory Information Management Services, Office of the Management.

[FR Doc. E6-14801 Filed 9-6-06; 8:45 am]

BILLING CODE 4000-01-P